DEPARTMENT OF HOMELAND SECURITY

Coast Guard

[USCG-2008-0436]

Nontank Vessel Response Plan Enforcement

AGENCY: Coast Guard, DHS.

ACTION: Notice and request for comments.

SUMMARY: The Coast Guard is issuing this notice to inform U.S. and foreign flag nontank vessel owners and operators that effective August 22, 2008, we will begin enforcing the requirement to prepare and submit a nontank vessel response plan (NTVRP) for certain nontank vessels, as required by the Coast Guard and Maritime Transportation Act of 2004.

DATES: The policy announced in this document will become effective August 22, 2008. Comments and related materials must reach the Docket Management Facility on or before July 23, 2008.

ADDRESSES: You may submit comments identified by Coast Guard docket number USCG-2008-0436 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590.

(3) Hand Delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: For questions on this policy, contact Lieutenant Jarrod DeWitz, U.S. Coast Guard, telephone 202-372-1219 or vrp@uscg.mil. If you have questions on viewing or submitting material to the docket, please call Ms. Renee V. Wright, Program Manager, Docket Operations, telephone 202-366-9826.

SUPPLEMENTARY INFORMATION:

Request for Comments

We encourage you to submit comments and related materials about the enforcement policy announced in this notice. All comments received will be posted, without change, to http://www.regulations.gov and will include any personal information you have provided.

If you submit a comment, please include the docket number for this notice (USCG-2008-0436), indicate the specific section of this document to which each comment applies, and give the reason for each comment. We recommend that you include your name and a mailing address, an e-mail address, or a phone number in the body of your document so that we can contact you if we have questions regarding your submission.

You may submit your comments and materials by mail, hand delivery, fax, or electronic means to the Docket Management Facility listed under ADDRESSES. If you choose to submit them by mail or hand delivery, submit them in an unbound format, no longer than 8 ½ by 11 inches, and suitable for copying and electronic filing. If you submit them by mail and would like to know if they reached the Facility, please enclose a stamped, self-addressed postcard or envelope. We will consider all comments and materials received during the comment period.

Background and Purpose

Section 701 of the Coast Guard and Maritime Transportation Act of 2004 (CGMTA), Pub. L. 108-293, amended section 311(j)(5)of the Federal Water Pollution Control Act (FWPCA), 33 U.S.C. 1321(j)(5), and required owners and operators of nontank vessels to prepare and submit by August 9, 2005, plans for responding: (1) To a worst case discharge; and (2) to a substantial threat of such a discharge of oil from their vessels. A nontank vessel is defined as a self-propelled vessel of 400 gross tons or greater, which carries oil as fuel for main propulsion and operates on the navigable waters of the United States. Vessels that carry oil as primary or secondary cargo are currently regulated under 33 CFR part 155, subpart D, and are not subject to this notice. The 2004 Act also requires promulgation of regulations that prescribe the content and submission of the nontank vessel response plans.

The Coast Guard and Maritime Transportation Act of 2006 (Pub. L. 109-241) clarified that nontank vessel response plans are required for vessels of 400 gross tons or greater as measured under the International Convention on Tonnage Measurement of Ships, 1969, measurement system in 46 U.S.C. 14302, or the regulatory measurement system of 46 U.S.C 14502 for vessels not measured under 46 U.S.C. 14302.

Since the passage of the 2004 Act, the Coast Guard has published Navigation and Vessel Inspection Circular (NVIC) 01-05 CH 1 and a Federal Notice on June 24, 2005 (70 FR 36649) providing guidance with respect to enforcement of these requirements. NVIC 01-05 CH 1 also provides guidance to vessel owners and operators regarding the development of NTVRPs to meet the intent of the 2004 Act for the immediate submission of NTVRPs and for the Coast Guard's issuance of 2-year interim operating authorizations pending issuance of a final rule.

Considering that some nontank vessels still have not submitted a NTVRP to the Coast Guard and that the risks associated with oil spills from large nontank vessels similar to the November 7, 2007, COSCO BUSAN oil spill in San Francisco Bay, the Coast Guard will, effective August 22, 2008, begin actively enforcing the 2004 Act by screening all nontank vessels prior to their port arrival for the submission of NTVRPs. In an effort to devote our enforcement resources to those nontank vessels that pose the greatest risk in the event of a worst case discharge, this interim enforcement policy will focus on those nontank vessels of 1,600 gross tons or greater. For such vessels without a properly submitted plan, operational controls will be placed on the vessels by the Captains of the Port (COTP) under the authority of regulations in 33 CFR 160.111 issued under the Ports and Waterways Safety Act.

Nontank vessels less than 1,600 gross tons are considered to pose less of a threat, in part because of the smaller quantities of fuel carried and the light weight or distillate fuel oil that they generally use. Under section 701 of the 2004 Act, these vessels are still required to submit NTVRPs consistent with 33 U.S.C. 1321(j)(5).

Until NTVRP regulations are issued and in effect, the Coast Guard will continue to issue 2-year interim operating authorization letters for NTVRPs meeting the requirements found in 33 U.S.C. 1321(j)(5)(D). Vessel owners or operators of a nontank vessel shall ensure that the plan:

(1) Is consistent with the requirements of the National Contingency Plan and Area Contingency Plans;

(2) Identifies the qualified individual having full authority to implement removal actions, and requires immediate communications between that individual and the appropriate Federal official and the persons providing personnel and equipment;

(3) Identifies, and ensures by contract or other means approved by the President the availability of private personnel and equipment necessary to remove to the maximum extent practicable a worst case discharge (including a discharge resulting from fire or explosion), and to mitigate or prevent a substantial threat of such a discharge;

(4) Describes the training, equipment testing, periodic unannounced drills, and response actions of persons on the vessel or at the facility, to be carried out under the plan to ensure the safety of the vessel or facility and to mitigate or prevent the discharge, or the substantial threat of a discharge;

(5) Is updated periodically; and

(6) Is resubmitted for approval of each significant change.

Vessel owners and operators are encouraged to submit plans in accordance with the guidance of NVIC 01-05 CH 1. Plans submitted to the Coast Guard consistent with this guidance will facilitate issuance of interim operating authorizations.

Once plans are received for review, the Coast Guard will issue an acknowledgement receipt. For plans that do not meet the elements described above, the Coast Guard will send the owner or operator a revision request identifying the deficient elements. If the Coast Guard finds the elements of a response plan to be not in compliance with the requirements of 33 U.S.C. 1321(j)(5)(D) as amended by the 2004 Act, the Coast Guard may initiate vessel operational controls under authority of 33 U.S.C. 1233 and 33 CFR 160.111.

The Coast Guard is interested in receiving comments on this policy notice.

Dated: June 18, 2008.
Brian M. Salerno
Rear Admiral, U.S. Coast Guard, Assistant Commandant for Marine Safety, Security And Stewardship.

[FR Doc. E8-14115 Filed 6-20-08; 8:45 am]

BILLING CODE 4910-15-P